DEPARTMENT OF THE INTERIOR

National Park Service

General Management Plan, Environmental Impact Statement, Appomattox Court House National Historical Park, Virginia

AGENCY: National Park Service, Department of the Interior.

ACTION: Notice of intent to prepare an Environmental Impact Statement for the General Management Plan, Appomattox Court House National Historical Park.

SUMMARY: Under the provisions of the National Environmental Policy Act of 1969, as amended, the National Park Service is preparing an environmental impact statement for the General Management Plan for Appomattox Court House National Historical Park and is initiating the scoping process for this document. This notice is in accordance with 40 CFR 1501.7 and 40 CFR 1508.22, of the regulations of the President's Council on Environmental Quality for the National Environmental Policy Act of 1969, Public Law 91-190.

Background

The purpose of the GMP/EIS will be to state the management philosophy for the park and to provide alternatives for addressing major issues facing the area. The alternatives will be based on the mission and goals of the NPS and those of the park and will identify the programs, actions and support facilities needed to manage and preserve cultural and natural resources and to provide for safe, accessible and appropriate use of those resources by visitors.

Participation throughout the planning process will be encouraged and facilitated by various means, such as public meetings and newsletters. The NPS will conduct public scoping meetings to explain the planning process and to solicit opinions about issues to address in the GMP/EIS. The time and location of these meetings will be announced in the local and regional media and through mailed notices. This notice will also serve as an additional scoping method. Those wishing to comment or express concerns on the management issues and future management direction of Appomattox Court House National Historical Park are invited to participate in the scoping process by responding to this notice with written or e-mail comments.

Contact Information: Requests to be added to the mailing list for the project, questions and comments should be sent in writing to the Superintendent, Appomattox Court House National Historical Park, P.O. Box 218, Route 24, Appomattox, VA 24522 or via the Internet at apco_gmp@nps.gov or be made by telephone at (804) 352-8987.

Dated: April 6, 2001.
Leonard C. Emerson,
Acting, Regional Director, Northeast Region.

[FR Doc. 01-10291 Filed 4-25-01; 8:45 am]

BILLING CODE 4310-70-M